DEPARTMENT OF TRANSPORTATION

National Highway Traffic Safety Administration

[Docket No. NHTSA-2013-0006; Notice 2]

General Motors, LLC, Grant of Petition for Decision of Inconsequential Noncompliance

AGENCY: National Highway Traffic Safety Administration (NHTSA), Department of Transportation (DOT).

ACTION: Grant of Petition.

SUMMARY: General Motors, LLC (GM), has determined that certain model year (MY) 2007 through 2013 GM trucks and multipurpose passenger vehicles (MPVs) manufactured from June 19, 2006, through December 6, 2012 do not fully comply with paragraph S4.3 of Federal Motor Vehicle Safety Standard (FMVSS) No. 110, Tire Selection and Rims for Motor Vehicles with a GVWR of 4,536 Kilograms or less. GM filed an appropriate report dated December 19, 2012 pursuant to 49 CFR part 573 Defect and Noncompliance Responsibility and Reports.

ADDRESSES: For further information on this decision contact Stuart Seigel, Office of Vehicle Safety Compliance, the National Highway Traffic Safety Administration (NHTSA), telephone (202) 366-2587, facsimile (202) 366-5930.

SUPPLEMENTARY INFORMATION:

I. GM's Petition: Pursuant to 49 U.S.C. 30118(d) and 30120(h) and the rule implementing those provisions at 49 CFR Part 556, GM has petitioned for an exemption from the notification and remedy requirements of 49 U.S.C. Chapter 301 on the basis that this noncompliance is inconsequential to motor vehicle safety.

Notice of receipt of the petition was published, with a 30-day public comment period, on June 27, 2013 in the Federal Register (78 FR 38801). No comments were received. To view the petition and all supporting documents log onto the Federal Docket Management System (FDMS) Web site at: http://www.regulations.gov/. Then follow the online search instructions to locate docket number “NHTSA-2013-0006.”

II. Vehicles Involved: Affected are approximately 5,690: MY 2007 through 2013 Chevrolet Silverado trucks, Suburban MPVs and Tahoe MPVs; MY 2007 through 2013 GMC Sierra trucks; MY 2012 GMC Yukon MPVs; and MY 2007, 2009, 2011, 2012 and 2013 Yukon XL MPV's. The affected vehicles were manufactured from June 19, 2006 through December 6, 2012.

III. Noncompliance: GM explains that the noncompliance is that the subject vehicles are equipped with special equipment options 9S1 & 9U3 and are built with 2 front seating positions separated by floor space. However, the tire and loading placards incorrectly indicate that the vehicles have 3 front seating positions and therefore do not fully comply with paragraph S4.3 of FMVSS No. 110.

IV. Rule Text: Paragraph S4.3 of FMVSS No. 110 requires in pertinent part:

S4.3 Placard. Each vehicle, except for a trailer or incomplete vehicle, shall show the information specified in S4.3(a) through (g), and may show, at the manufacturer's option, the information specified in S4.3(h) and (i), on a placard permanently affixed to the driver's side B-pillar. In each vehicle without a driver's side B-pillar and with two doors on the driver's side of the vehicle opening in opposite directions, the placard shall be affixed on the forward edge of the rear side door. If the above locations do not permit the affixing of a placard that is legible, visible and prominent, the placard shall be permanently affixed to the rear edge of the driver's side door. If this location does not permit the affixing of a placard that is legible, visible and prominent, the placard shall be affixed to the inward facing surface of the vehicle next to the driver's seating position. This information shall be in the English language and conform in color and format, not including the border surrounding the entire placard, as shown in the example set forth in Figure 1 in this standard. At the manufacturer's option, the information specified in S4.3(c), (d), and, as appropriate, (h) and (i) may be shown, alternatively to being shown on the placard, on a tire inflation pressure label which must conform in color and format, not including the border surrounding the entire label, as shown in the example set forth in Figure 2 in this standard. The label shall be permanently affixed and proximate to the placard required by this paragraph. The information specified in S4.3(e) shall be shown on both the vehicle placard and on the tire inflation pressure label (if such a label is affixed to provide the information specified in S4.3(c), (d), and, as appropriate, (h) and (i)) may be shown in the format and color scheme set forth in Figures 1 and 2. If the vehicle is a motor home and is equipped with a propane supply, the weight of full propane tanks must be included in the vehicle's unloaded vehicle weight. If the vehicle is a motor home and is equipped with an on-board potable water supply, the weight of such on-board water must be treated as cargo . . .

(b) Designated seated capacity (expressed in terms of total number of occupants and number of occupants for each front and rear seat location) . . .

V. Summary of GM'S Analyses: GM states that the error resulted in the following condition on the subject placards of these vehicles:

• The seating capacity for the front row seat is incorrectly shown as 3 instead of 2.

• The total seating capacity is overstated by 1. For example, the total seating capacity is incorrectly shown as 3 instead of 2 for the vehicles with one row of seats, and as 6 instead of 5 for the vehicles with two rows of seats.

• The vehicle capacity weight (expressed as a combined weight of occupants and cargo) on the placard is correct. The seating capacity error has no impact on the vehicle capacity weight.

• All other information (front, rear and spare tire size designations and their respective cold tire inflation pressures as well as vehicle capacity weight) on the subject placards is correct.

GM stated its belief that this noncompliance is inconsequential to motor vehicle safety for the following reasons:

1. The subject vehicles are equipped with two bucket seats with one seat belt each in the front row. GM believes that the number of seats and the number of seat belts installed in the vehicle will clearly indicate to the customers the actual seating capacity, and it will be apparent to any observer that there are only two front seating positions. Even if an occupant references the tire information placard to determine the vehicle's seating capacity, it will be readily apparent that the front row seating capacity is 2 and not 3.

2. The vehicle capacity weight (expressed as a combined weight of occupants and cargo) on the placard is correct. The seating capacity error has no impact on the vehicle capacity weight, and therefore, there is no risk of vehicle overloading.

3. All information required for maintaining and/or replacing the front and rear tires is correct on the tire information placard of the subject vehicles.

4. All other applicable requirements of FMVSS No. 110 have been met.

5. GM is not aware of any customer complaints, incidents or injuries related to the incorrect seating capacity on the subject tire information placards.

GM additionally informed NHTSA that it has corrected the noncompliance so that all future production vehicles will fully comply with FMVSS No. 110.

In summation, GM believes that the described noncompliance of its vehicles is inconsequential to motor vehicle safety, and that its petition, to exempt from providing recall notification of noncompliance as required by 49 U.S.C. 30118 and remedying the recall noncompliance as required by 49 U.S.C. 30120 should be granted.

VI. NHTSA Decision: NHTSA has reviewed and accepts GM's analyses that the subject noncompliance is inconsequential to motor vehicle safety. Specifically, while the tire and loading placards incorrectly indicate the number of seating positions, that labeling error alone poses little if any risk to motor vehicle safety since the number of seating positions is readily apparent in the subject vehicles. The widths and shapes of the seats, especially the bucket seats, along with the number of seat belt sets installed provides a sufficient indication as to the maximum number of occupants the subject vehicles are intended to carry.

In consideration of the foregoing, NHTSA has decided that GM has met its burden of persuasion that the FMVSS No. 110 noncompliance is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the 5,690 vehicles that GM no longer controlled at the time it determined that the noncompliance existed. However, the granting of this petition does not relieve vehicle distributors and dealers of the prohibitions on the sale, offer for sale, or introduction or delivery for introduction into interstate commerce of the noncompliant tires under their control after GM notified them that the subject noncompliance existed.

Authority: (49 U.S.C. 30118, 30120: delegations of authority at 49 CFR 1.95 and 501.8).

Jeffrey M. Giuseppe,
Acting Director, Office of Vehicle Safety Compliance.

[FR Doc. 2014-27584 Filed 11-20-14; 8:45 am]

BILLING CODE 4910-59-P